DEPARTMENT OF DEFENSE

GENERAL SERVICES ADMINISTRATION

NATIONAL AERONAUTICS AND SPACE ADMINISTRATION

48 CFR Part 52

[FAC 2024-01; Item II; Docket No. FAR-2023-0052; Sequence No. 5]

Federal Acquisition Regulation; Technical Amendments

AGENCY: Department of Defense (DoD), General Services Administration (GSA), and National Aeronautics and Space Administration (NASA).

ACTION: Final rule.

SUMMARY: This document amends the Federal Acquisition Regulation (FAR) to make needed editorial changes.

DATES: Effective November 14, 2023.

FOR FURTHER INFORMATION CONTACT: Ms. Lois Mandell, Regulatory Secretariat Division (MVCB), at 202-501-4755 or GSARegSec@gsa.gov. Please cite FAC 2024-01, Technical Amendments.

SUPPLEMENTARY INFORMATION: This document makes editorial changes to 48 CFR part 52.

List of Subjects in 48 CFR Part 52

Government procurement.

William F. Clark,
Director, Office of Government-wide Acquisition Policy, Office of Acquisition Policy, Office of Government-wide Policy.

Therefore, DoD, GSA, and NASA amend 48 CFR part 52 as set forth below:

PART 52—SOLICITATION PROVISIONS AND CONTRACT CLAUSES

1. The authority citation for 48 CFR part 52 continues to read as follows:

Authority: 40 U.S.C. 121(c); 10 U.S.C. chapter 4 and 10 U.S.C chapter 137 legacy provisions (see 10 U.S.C. 3016); and 51 U.S.C. 20113.

2. Amend section 52.212-3 by—

a. Revising the date of the provision; and

b. Removing from paragraphs (g)(1)(i)(B), (g)(1)(ii), and (g)(3) the word “Bahrainian” wherever it appears and adding “Bahraini” in its place.

The revision reads as follows:

52.212-3 Offeror Representations and Certifications—Commercial Products and Commercial Services.

* * * * *

Offeror Representations and Certifications—Commercial Products and Commercial Services (NOV 2023)

* * * * *

3. Amend section 52.212-5 by—

a. Revising the date of the clause;

b. Removing from paragraph (b)(51)(i) “(DEC 2022)” and adding “(NOV 2023) in its place; and

c. Removing from paragraph (b)(51)(iv) “(JAN 2021)” and adding “(NOV 2023) in its place.

The revision reads as follows:

52.212-5 Contract Terms and Conditions Required To Implement Statutes or Executive Orders—Commercial Products and Commercial Services.

* * * * *

Contract Terms and Conditions Required To Implement Statutes or Executive Orders—Commercial Products and Commercial Services (NOV 2023)

* * * * *

4. Amend section 52.225-3 by—

a. Revising the date of the clause;

b. Removing from paragraph (a), in the definition of “Bahrainian, Moroccan, Omani, Panamanian, or Peruvian end product”, the word “Bahrainian” and adding “Bahraini” in its place;

c. Removing from the last sentence of paragraph (c) the word “Bahrainian” wherever it appears and adding “Bahraini” in its place; and

d. In Alternate III:

i. Revising the date of the Alternate;

ii. Removing from the introductory text the word “Bahrainian” wherever it appears and adding “Bahraini” in its place;

iii. Removing from the definition of “Bahrainian, Korean, Moroccan, Omani, Panamanian, or Peruvian end product” the word “Bahrainian” and adding “Bahraini” in its place; and

iv. Removing from the last sentence of paragraph (c) the word “Bahrainian” wherever it appears and adding “Bahraini” in its place.

The revisions read as follows:

52.225-3 Buy American—Free Trade Agreements—Israeli Trade Act.

* * * * *

Buy American—Free Trade Agreements—Israeli Trade Act (NOV 2023)

* * * * *

Alternate III (NOV 2023). * * *

* * * * *

5 Amend section 52.225-4 by—

a. Revising the date of the provision;

b. Removing from paragraph (a)(2) the word “Bahrainian” and adding “Bahraini” in its place;

c. Removing from paragraph (b) the word “Bahrainian” wherever it appears and adding “Bahraini” in its place; and

d. In Alternate III:

i. Revising the date of the Alternate; and

ii. Removing from paragraph (b) the word “Bahrainian” wherever it appears and adding “Bahraini” in its place.

The revisions read as follows:

52.225-4 Buy American—Free Trade Agreements—Israeli Trade Act Certificate.

* * * * *

Buy American—Free Trade Agreements—Israeli Trade Act Certificate (NOV 2023)

* * * * *

Alternate III (NOV 2023). * * *

* * * * *

6. Amend section 52.225-11 in Alternate I by—

a. Revising the date of the Alternate and removing from the introductory text the word “Bahrainian” and adding “Bahraini” in its place;

b. Removing from the definition of “Bahrainian, Mexican, or Omani construction material” the word “Bahrainian” and adding “Bahraini” in its place; and

c. Removing from paragraphs (b)(1) and (2) the word “Bahrainian” and adding “Bahraini” in its place, respectively.

The revisions read as follows:

52.225-11 Buy American—Construction Materials Under Trade Agreements.

* * * * *

Alternate I (NOV 2023). * * *

* * * * *

7. Amend section 52.225-12 in Alternate II by—

a. Revising the date of the Alternate and removing from the introductory text the word “Bahrainian” and adding “Bahraini” in its place; and

b. Removing from paragraph (d)(1) and paragraph (d)(3) introductory text the word “Bahrainian” and adding “Bahraini” in its place, respectively.

The revision reads as follows:

52.225-12 Notice of Buy American Requirement—Construction Materials Under Trade Agreements.

* * * * *

Alternate II (NOV 2023). * * *

* * * * *

8. Amend section 52.225-23 in Alternate I by—

a. Revising the date of the Alternate and removing from the introductory text the word “Bahrainian” and adding “Bahraini” in its place;

b. Removing from the definition of “Bahrainian, Mexican, or Omani construction material” the word “Bahrainian” and adding “Bahraini” in its place; and

c. Removing from paragraph (b)(2) the word “Bahrainian” and adding “Bahraini” in its place.

The revision reads as follows:

52.225-23 Required Use of American Iron, Steel, and Manufactured Goods—Buy American Statute—Construction Materials Under Trade Agreements.

* * * * *

Alternate I (NOV 2023). * * *

* * * * *

9. Amend section 52.225-24 in Alternate II by—

a. Revising the date of the Alternate and removing from the introductory text the word “Bahrainian” and adding “Bahraini” in its place; and

b. Removing from paragraph (d)(1) and paragraph (d)(3) introductory text the word “Bahrainian” and adding “Bahraini” in its place, respectively.

The revision reads as follows:

52.225-24 Notice of Required Use of American Iron, Steel, and Manufactured Goods—Buy American Statute—Construction Materials Under Trade Agreements.

* * * * *

Alternate II (NOV 2023). * * *

* * * * *

[FR Doc. 2023-24933 Filed 11-13-23; 8:45 am]

BILLING CODE 6820-EP-P